DEPARTMENT OF HEALTH AND HUMAN SERVICES

Centers for Medicare & Medicaid Services

[Document Identifier: CMS-10177 and CMS-10044]

Agency Information Collection Activities: Proposed Collection; Comment Request

AGENCY: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: Survey of Contract Labor in Selected Health Industries; Form Number: CMS-10177 (OMB#: 0938-NEW); Use: CMS Medicare reimbursement to hospitals and skilled nursing facilities is based, in part, on the portion of costs which are related to, are influenced by, or vary with the local labor markets. This portion is known as the labor-related share. Currently, contract labor costs for accounting and auditing services, engineering services, legal services, and management consulting services are included in the labor-related share. These costs are calculated based on data published in the Medicare cost reports and the Input-Output tables published by the Bureau of Economic Analysis (BEA). At this time, the labor-related share is not used to reimburse end-stage renal disease centers (ESRDs) for providing Medicare services. However, there is a possibility that this circumstance may change; therefore CMS will include ESRDs in the survey. It is assumed that these professional services contract labor costs are purchased in the local labor market and thus should be included in the labor-related share. A search of the literature reveals no existing work on this subject. Therefore, CMS will survey hospitals, skilled nursing facilities, and kidney dialysis centers to determine if their professional service contract labor is hired from local or national labor markets.; Frequency: Reporting—One-time; Affected Public: Not-for-profit institutions, Business or other for-profit, Federal Government, State, Local, or Tribal Government; Number of Respondents: 4,000; Total Annual Responses: 4,000; Total Annual Hours: 4,000.

2. Type of Information Collection Request: Extension of a currently approved collection; Title of Information Collection: Medicare Lifestyle Modification Program Demonstration; Form Number: CMS-10044 (OMB#: 0938-0871); Use: The Medicare Lifestyle Modification Program Demonstration will focus on two Medicare-sponsored, lifestyle modification programs designed to reverse, reduce, or ameliorate the progression of coronary artery disease (CAD) at risk for significant morbidity and mortality. Lifestyle modification programs are an increasingly important approach to the secondary prevention of coronary morbidity. Research has provided evidence that lifestyle changes decrease cardiovascular risk factors, resulting in lower morbidity and mortality associated with coronary artery disease (CAD). Such programs may reduce the incidence of hospitalizations and invasive procedures among patients with substantial coronary occlusion. Consequently, lifestyle modification may also reduce the need for revascularization procedures (coronary artery bypass graft (CABG) and percutaneous coronary angioplasty (PTCA)) as well as the use of ambulatory and inpatient services for this disease. This demonstration will test the cost effectiveness and feasibility of providing payment for cardiovascular lifestyle modification program services to Medicare beneficiaries.; Frequency: Reporting—Monthly; Affected Public: Individuals or Households; Number of Respondents: 2,240; Total Annual Responses: 1,680; Total Annual Hours: 1106.

To obtain copies of the supporting statement and any related forms for the proposed paperwork collections referenced above, access CMS' Web site address at http://www.cms.hhs.gov/regulations/pra/, or E-mail your request, including your address, phone number, OMB number, and CMS document identifier, to Paperwork@cms.hhs.gov, or call the Reports Clearance Office on (410) 786-1326.

To be assured consideration, comments and recommendations for the proposed information collections must be received at the address below, no later than 5 p.m. on February 7, 2006.

CMS, Office of Strategic Operations and Regulatory Affairs, Division of Regulations Development—B, Attention: William N. Parham, III, Room C4-26-05, 7500 Security Boulevard, Baltimore, Maryland 21244-1850.

Dated: December 2, 2005.
Michelle Shortt,
Director, Regulations Development Group, Office of Strategic Operations and Regulatory Affairs.

[FR Doc. E5-7134 Filed 12-8-05; 8:45 am]

BILLING CODE 4120-01-P